DEPARTMENT OF ENERGY

Federal Energy Regulatory Commission

[Docket No. P-12187-000]

Notice of Application Accepted for Filing and Soliciting Motions To Intervene and Protest

September 24, 2003.

Take notice that the following hydroelectric application has been filed with the Commission and is available for public inspection.

a. Type of Application: Original Major License.

b. Project No.: P-12187-000.

c. Date Filed: June 03, 2002.

d. Applicant: Price Dam Partnership, Limited.

e. Name of Project: Price Dam Hydroelectric Project.

f. Location: Located on the Mississippi River in city of Alton, Wood River Township, Madison County, Illinois. The proposed project would be constructed on the U.S. Corps of Engineers (Corps) Melvin Price Locks & Dam and the nearby Illinois shoreline of the Mississippi River and would affect a portion of the 7.8 acres of federal lands (including six of the nine existing gate bays in the dam and a portion of the Illinois shoreline for the construction of a proposed transmission line and a proposed Control/Storage building).

g. Filed Pursuant to: Federal Power Act 16 U.S.C. 791(a)-825(r).

h. Applicant Contact: Mr. James B. Price, WV Hydro, Inc., P.O. Box 903, Gatlinburg, TN 37738 (865) 436-0402.

i. FERC Contact: Lee Emery, (202) 502-8379 or e-mail lee.emery@ferc.gov.

j. Deadline for filing motions to intervene and protest: 60 days from the issuance date of this notice.

All documents (original and eight copies) should be filed with: Magalie R. Salas, Secretary, Federal Energy Regulatory Commission, 888 First Street, NE., Washington, DC 20426.

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

Motions to intervene and protests may be filed electronically via the Internet in lieu of paper. The Commission strongly encourages electronic filings. See 18 CFR 385.2001(a)(1)(iii) and the instructions on the Commission's Web site (http://www.ferc.gov) under the “e-Filing” link.

k. This application has been accepted for filing, but is not ready for environmental analysis at this time.

l. Description of Project: The proposed Price Dam Project would use the U.S. Corps of Engineers' Melvin Price Locks & Dam and Reservoir, and would consist of the following facilities: (1) 192 individual, turbine/generator units grouped in six moveable steel modules 108.9-feet-long by 26.2-feet-wide by 44.0-feet-high, (a) each module contains 32 turbine/generator sets (two horizontal rows of 16 units each) that will be installed in stoplog slots on adjacent piers upstream from the Taintor gates, and (b) each turbine/generator unit includes a 550 kilowatt bulb-type generator, a fixed-blade propeller turbine, and a single draft tube for each two turbine/generating units; (2) flexible power cables, each connecting the six 32-turbine/generator-sets to six 7.2 kilovolt (kV) transformer and breaker sets on an adjacent pier; (3) lifting/access columns at the end of each module; (4) six air-operated spillway gates, 7-feet-high by 96-feet-long, installed on top of each module with each gate containing an inflatable rubber bladder; (5) a hallway housing the station service transformer, motor control center, and control system; (6) a slave terminal at the lockmaster's office and a control station located on the dam superstructure; (7) a 6.9-kV/138-kV step-up transformer located on a platform on the dam axis at elevation 479 feet National Geodetic Vertical Datum; (8) a mobile, 1,000 metric ton crane with an auxiliary crane riding on top of the module cranes' lifting beam; these cranes would lower and raise the power modules and operate the trash rake; (9) a fish bypass on each module; (10) a trashrack assembly with a two-inch clear spacing between the bars, and a crane-operated trash rake; (11) a 500-kilowatt generator; (12) a 0.8-mile-long, 138-kV transmission line connecting the project power to the Mississippi Substation of Ameren, Incorporated; (13) an auxiliary Control/Storage building; and (14) appurtenant facilities. The average annual generation is estimated to be 319,000 megawatt-hours and have an installed generating capacity of 92 megawatts (MW). All generated power would be sold to a local utility connected to the grid.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h. above.

You may also register online at http://www.ferc.gov /docs-filing/esubscription.asp to be notified via e-mail of new filings and issuances related to this or other pending projects. For assistance, contact FERC Online Support.

n. Any qualified applicant desiring to file a competing application must submit to the Commission, on or before the specified deadline date for the particular application, a competing development application, or a notice of intent to file such an application. Submission of a timely notice of intent allows an interested person to file the competing development application no later than 120 days after the specified deadline date for the particular application. Applications for preliminary permits will not be accepted in response to this notice.

A notice of intent must specify the exact name, business address, and telephone number of the prospective applicant, and must include an unequivocal statement of intent to submit, if such an application may be filed, either a preliminary permit application or a development application (specify which type of application). A notice of intent must be served on the applicant(s) named in this public notice.

Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

When the application is ready for environmental analysis, the Commission will issue a public notice requesting comments, recommendations, terms and conditions, or prescriptions.

All filings must (1) Bear in all capital letters the title “PROTEST” or “MOTION TO INTERVENE,” “NOTICEOF INTENT TO FILE COMPETING APPLICATION,'or “COMPETING APPLICATION;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

o. Procedural schedule: The application will be processed according to the following Hydro Licensing Schedule. Revisions to the schedule will be made as appropriate.

Notice of Application Accepted For Filing and Soliciting: September 2003.

Motions To Intervene And Protests Issue Scoping Document: January 2004.

Notice Application Ready For EA (REA) and Soliciting: April 2004.

Comments and Recommendations

Notice Of The Availability Of The EA: October 2004.

Order Issuing The Commission's Decision on the Application: January 2005.

Unless substantial comments are received in response to the EA, staff intends to prepare a single EA in this case. If substantial comments are received in response to the EA, a final EA will be prepared with the following modifications to the schedule.

Notice of the Availability of the EA: December 2004.

Order issuing the Commission's decision on the application: February 2005.

Magalie R. Salas
Secretary.

[FR Doc. 03-24888 Filed 10-1-03; 8:45 am]

BILLING CODE 6717-01-P